DEPARTMENT OF COMMERCE

International Trade Administration

[A-570-835]

Furfuryl Alcohol From the People's Republic of China: Continuation of Antidumping Duty Order

AGENCY: Enforcement and Compliance, International Trade Administration, Department of Commerce.

SUMMARY: As a result of determinations by the Department of Commerce (Department) and the International Trade Commission (ITC) that revocation of the antidumping duty (AD) order on furfuryl alcohol from the People's Republic of China (PRC) would likely lead to a continuation or recurrence of dumping, and that revocation of the AD order would likely lead to material injury to an industry in the United States, the Department is publishing this notice of continuation of the AD order on furfuryl alcohol from the PRC.

DATES: Applicable August 9, 2017.

FOR FURTHER INFORMATION CONTACT: Keith Haynes, AD/CVD Operations, Office III, Enforcement and Compliance, International Trade Administration, U.S. Department of Commerce, 1401 Constitution Avenue NW., Washington, DC 20230; telephone: (202) 482-5139.

SUPPLEMENTARY INFORMATION: On January 3, 2017, the Department published the notice of initiation of the fourth sunset review of the AD Order ¹ on furfuryl alcohol from the PRC pursuant to section 751(c) of the Tariff Act of 1930, as amended (the Act).² As a result of its review, on May 1, 2017, the Department determined that revocation of the AD order on furfuryl alcohol from the PRC would be likely to lead to a continuation or recurrence of dumping, and, therefore, notified the ITC of the magnitude of the margins likely to prevail should the order be revoked.³

¹ See Notice of Antidumping Duty Order: Furfuryl Alcohol from the People's Republic of China (PRC), 60 FR 32302 (June 21, 1995) (Order).

² See Initiation of Five-Year (“Sunset”) Reviews, 82 FR 84 (January 3, 2017) (Notice of Initiation).

³ See Furfuryl Alcohol from the People's Republic of China: Final Results of Expedited Fourth Sunset Review of Antidumping Duty Order, 82 FR 36154 (August 3, 2017).

On July 28, 2017, the ITC determined, pursuant to section 751(c) of the Act, that revocation of the existing AD order on furfuryl alcohol from the PRC would be likely to lead to a continuation or recurrence of material injury to an industry in the United States within a reasonably foreseeable time.⁴

⁴ See Furfuryl Alcohol from China, USITC Inv. No. 731-TA-703 (July 28, 2017).

Scope of the Order

The merchandise covered by this order is furfuryl alcohol (C4H3OCH2OH). Furfuryl alcohol is a primary alcohol, and is colorless or pale yellow in appearance. It is used in the manufacture of resins and as a wetting agent and solvent for coating resins, nitrocellulose, cellulose acetate, and other soluble dyes. The product subject to this order is classifiable under subheading 2932.13.00 of the Harmonized Tariff Schedule of the United States (HTSUS). Although the HTSUS subheading is provided for convenience and customs purposes, our written description of the scope is dispositive.

Continuation of the Order

As a result of the determinations by the Department and the ITC that revocation of the AD order on furfuryl alcohol from the PRC would be likely to lead to a continuation or recurrence of dumping, and material injury to an industry in the United States, pursuant to section 751(d)(2) of the Act, the Department hereby orders the continuation of the AD order on furfuryl alcohol from the PRC. U.S. Customs and Border Protection will continue to collect cash deposits at the rates in effect at the time of entry for all imports of subject merchandise. The effective date of the continuation of the order will be the date of publication in the Federal Register of this notice of continuation. Pursuant to section 751(c)(2) of the Act, the Department intends to initiate the next five-year review of the order not later than 30 days prior to the fifth anniversary of the effective date of continuation.

This five-year (sunset) review and this notice are in accordance with section 751(c) of the Act and published pursuant to section 777(i)(1) of the Act.

Dated: August 3, 2017.
Carole Showers,
Executive Director, Office of Policy performing the duties of Deputy Assistant Secretary for Enforcement and Compliance.

[FR Doc. 2017-16769 Filed 8-8-17; 8:45 am]

BILLING CODE 3510-DS-P